DEPARTMENT OF THE INTERIOR

Bureau of Land Management

[LLNM915000 L14200000.BJ0000]

Notice of Filing of Plats of Survey, New Mexico

AGENCY: Bureau of Land Management, Interior.

ACTION: Notice of Filing of Plats of Survey.

SUMMARY: The plats of survey described below are scheduled to be officially filed in the New Mexico State Office, Bureau of Land Management (BLM), Santa Fe, New Mexico, 30 calendar days from the date of this publication.

SUPPLEMENTARY INFORMATION:

New Mexico Principal Meridian, New Mexico (NM)

The plat representing the dependent resurvey of a portion of the north and west boundaries, a portion of the subdivisional lines, and a metes and bounds survey in sections 6 and 7, Township 6 North, Range 5 East of the New Mexico Principal Meridian, New Mexico, accepted August 11, 2009, for Group 1040 NM.

The plat representing the dependent resurvey of a portion of the west boundary, a portion of the subdivisional lines, and the survey of the subdivision of section 31, Township 7 North, Range 5 East of the New Mexico Principal Meridian, New Mexico, accepted August 11, 2009, for Group 1040 NM.

The plat, in seven sheets, representing the dependent resurvey of a portion of the north and west boundaries, a portion of the subdivisional lines and certain mining claim boundaries in sections 3 through 8, and the survey of the subdivision of sections 3 through 8, Township 18 South, Range 12 West of the New Mexico Principal Meridian, New Mexico, accepted June 24, 2009, for Group 1081 NM.

The plat, in two sheets, representing the dependent resurvey of a portion of the New Mexico and Colorado State Boundary Line, and a portion of the New Mexico and Arizona State Boundary Line. The dependent resurvey of the south and east boundaries, the survey of the subdivisional lines, and the subdivision of certain sections, Fractional Township 32 North, Range 21 West of the New Mexico Principal Meridian, New Mexico, accepted July 2, 2009, for Group 1066 NM.

The supplemental plat representing Township 22 South, Range 2 East of the New Mexico Principal Meridian, New Mexico, accepted June 25, 2009.

The Protraction Diagram representing Township 22 North, Range 3 West of the New Mexico Principal Meridian, New Mexico, accepted August 4, 2009.

The Protraction Diagram representing Township 22 North, Range 2 West of the New Mexico Principal Meridian, New Mexico, accepted August 4, 2009.

The Protraction Diagram representing Township 22 North, Range 4 West of the New Mexico Principal Meridian, New Mexico, accepted August 4, 2009.

The Protraction Diagram representing Township 23 North, Range 2 West of the New Mexico Principal Meridian, New Mexico, accepted August 4, 2009.

The Protraction Diagram representing Township 23 North, Range 3 West of the New Mexico Principal Meridian, New Mexico, accepted August 4, 2009.

The Protraction Diagram representing Township 23 North, Range 4 West of the New Mexico Principal Meridian, New Mexico, accepted August 4, 2009.

The Protraction Diagram representing Township 24 North, Range 4 West of the New Mexico Principal Meridian, New Mexico, accepted August 4, 2009.

The Protraction Diagram representing Township 26 North, Range 3 West of the New Mexico Principal Meridian, New Mexico, accepted August 4, 2009.

The Protraction Diagram representing Township 21 North, Range 2 West of the New Mexico Principal Meridian, New Mexico, accepted August 4, 2009.

FOR FURTHER INFORMATION, CONTACT: These plats will be available for inspection in the New Mexico State Office, Bureau of Land Management, P.O. Box 27115, Santa Fe, New Mexico, 87502-0115. Copies may be obtained from this office upon payment. Contact Marcella Montoya at 505-438-7537, or Marcella_Montoya@nm.blm.gov, for assistance.

Robert A. Casias,
Chief, Branch of Cadastral Survey.

[FR Doc. E9-21144 Filed 9-1-09; 8:45 am]

BILLING CODE 4310-FB-P